DEPARTMENT OF THE INTERIOR

Bureau of Land Management

Fish and Wildlife Service

[FWS-R8-ES-2011-N131; 80221-1112-80221-F2]

Desert Renewable Energy Conservation Plan, Habitat Conservation Plan and Possible Land Use Plan Amendment, Southern California: Environmental Impact Statement

AGENCY: Fish and Wildlife Service, Interior; Bureau of Land Management, Interior.

ACTION: Notice of intent and notice of public meetings; request for comments.

SUMMARY: We, the Fish and Wildlife Service (Service), intend to prepare an Environmental Impact Statement (EIS) under the National Environmental Policy Act (NEPA) of 1969, as amended, for the proposed Desert Renewable Energy Conservation Plan (DRECP). The EIS will be a joint Environmental Impact Statement/Environmental Impact Report (EIS/EIR), for which the Service and the Bureau of Land Management (BLM), together with the California Energy Commission (CEC) and the California Department of Fish and Game (CDFG), intend to gather information necessary for preparation. The DRECP will then be prepared to meet the requirements of the Federal Endangered Species Act of 1973, as amended, and the State of California's Endangered Species Act and Natural Communities Conservation Planning Act. The BLM, in compliance with the Federal Land Policy and Management Act, as amended, will consider this NEPA process and the resulting DRECP documents in its analysis toward possible amendment of BLM's California Desert Conservation Area (CDCA) Plan of 1980, as amended.

DATES: Please send written comments on or before September 12, 2011 (see ADDRESSES).

Three public scoping meetings will be held for the EIS/EIR, and we will accept written comments at these meetings. These public meetings will be held on the following dates and at the following locations:

1. August 16, 2011, 7-9 p.m., Lake Arrowhead Ballroom, Doubletree Ontario Hotel, 222 N Vineyard Ave. Ontario, CA 91764.

2. August 24, 2011, 2-4 p.m., Hearing Room A, California Energy Commission, 1516 Ninth St. Sacramento, CA 95814.

3. August 24, 2011, 7-9 p.m., Hearing Room A, California Energy Commission, 1516 Ninth St. Sacramento, CA 95814.

For more information, see “Public Comments” and “Reasonable Accommodation” under SUPPLEMENTARY INFORMATION.

ADDRESSES: Send your comments or requests for more information by any one of the following methods.

E-mail: FW8DRECP@fws.gov. Include “Scoping Comments” in the subject line of the message.

Fax: Attn: Jim Bartel, Field Supervisor, (760) 431-5902.

U.S. Mail: Jim Bartel, Field Supervisor, Carlsbad Fish and Wildlife Office, U.S. Fish and Wildlife Service, 6010 Hidden Valley Road, Suite 101, Carlsbad, CA 92011.

In-Person Drop-off: You may drop off comments during regular business hours at the above address.

FOR FURTHER INFORMATION CONTACT: Ken Corey, Assistant Field Supervisor, by phone at (760) 431-9440, or by U.S. mail at the above address; or Vicki Campbell, DRECP Program Manager, by phone at (916) 978-4320, or by U.S. mail at the BLM California State Office, 2800 Cottage Way, Suite W-1623, Sacramento, CA 95825.

SUPPLEMENTARY INFORMATION: The Service intends to prepare an EIS under NEPA for the proposed Desert Renewable Energy Conservation Plan (DRECP). The EIS will be a joint Environmental Impact Statement/Environmental Impact Report (EIS/EIR), for which the Service and BLM, together with the California Energy Commission (CEC) and the CDFG, intend to gather information necessary for preparation. The DRECP will then be prepared to meet the requirements of the section 10 habitat conservation plan (HCP) process under the Federal Endangered Species Act of 1973, as amended (ESA), and the State of California's Endangered Species Act (CESA) and Natural Communities Conservation Planning Act (NCCPA). The Service and BLM will serve as co-lead agencies in the overall EIS process.

BLM, in compliance with the Federal Land Policy and Management Act, as amended (43 U.S.C. 1701-1782; FLPMA), will consider the NEPA process and DRECP documents in its analysis as it considers possibly amending its California Desert Conservation Area Plan of 1980, as amended (CDCAP). The BLM issued a Notice of Intent to Prepare an EIS for a possible amendment to the CDCAP on November 20, 2009 (74 FR 60291). At this time, BLM announces the joining of its EIS preparation for the possible CDCAP amendment with the Service's EIS for the DRECP. For further information on the potential CDCA Plan amendment, please refer to BLM's November 20, 2009, Federal Register notice.

The Service will serve as the administrative lead for all actions related to this Federal Register notice for the DRECP HCP EIS component of the EIS/EIR. The CEC will serve as the State lead agency under the California Environmental Quality Act (CEQA) for the EIR component.

The Service is publishing this notice to announce the initiation of a public scoping period, during which we invite other agencies (local, State, and Federal), Tribes, nongovernmental organizations, and the public to submit written comments providing suggestions and information on the scope of issues and alternatives to be addressed in the EIS. Concurrently with this notice, the CEC has publicly released a CEQA notice of preparation for its EIR via State and local media. Please see http://www.drecp.org for more information on the CEQA process.

Background

The proposed DRECP would establish the structure to integrate renewable energy development and biological resource conservation across the Mojave and Colorado Desert regions of southern California. The Department of the Interior (DOI) Secretarial Order No. 3285 A1 (February 22, 2011) establishes the development of renewable energy as a departmental priority and outlines a strategy to increase the development and transmission of renewable energy from appropriate areas on public lands. The order also provides for DOI collaboration with other Federal agencies, States, local communities, and private landowners to facilitate the timely and environmentally responsible development of renewable energy and associated transmission while protecting and enhancing the nation's water, wildlife, and other natural resources.

In November 2008, California's Governor issued an executive order establishing the State of California's goal of meeting 33 percent of the State's electricity generation from renewable resources by 2020. The 33-percent goal became law with the enactment of California State Senate Bill 2 (Joe Simitian), signed into law by the Governor on April 12, 2011 (Pub. Resources Code, 25740, as amended by Stats. 2011, 1st Ex. Sess., ch.1X). The California Governor's Executive Order S-14-08 (November 17, 2008) mandated the development of the DRECP, a major component of California's renewable energy planning efforts. The proposed DRECP, if approved by the CEC and if permits are issued by the Service and CDFG, is expected to further these objectives and accelerate the processing of renewable projects in the Mojave and Colorado Deserts of southern California. The proposed DRECP is intended to advance State and Federal conservation goals in these desert regions while also facilitating the timely permitting of renewable energy projects, and to provide durable and reliable regulatory assurances, as appropriate, under the NCCPA and the ESA for renewable energy development on non-Federal land in the Mojave and Colorado Deserts of southern California. The DRECP would help provide for effective protection and conservation of desert ecosystems while allowing the appropriate development of renewable energy projects.

A Renewable Energy Action Team (REAT), consisting of the CEC, CDFG, BLM, and the Service, will oversee preparation and implementation of the DRECP. The REAT was created through Memoranda of Understanding in 2009 and 2010 among the CEC, CDFG, BLM, the Service, the Secretary of the Interior, and the Governor of California. The REAT's primary mission is to streamline and accelerate the permitting processes for renewable energy projects, while contributing to the conservation of endangered species and natural communities at the ecosystem scale.

The proposed DRECP will serve as a multiple-species HCP for CEC in its application for an incidental take permit under section 10(a)(1)(B) of the Federal ESA of 1973, as amended (16 U.S.C. 1531 et seq.). The DRECP will also serve as a Natural Community Conservation Plan (NCCP) under section 2800 et seq. of the California Fish and Game Code. Upon approval and adoption of the DRECP, the CEC and potentially other applicants would obtain authorization for the incidental take of certain endangered, threatened, and special-status plant and animal species (“Covered Species”) from the Service on non-Federal land, and from CDFG on both Federal and non-Federal land. If the Federal and State permits are issued, the permittees could extend their permit authorizations to proponents of additional renewable energy and transmission projects under their jurisdiction.

Section 9 of the ESA (16 U.S.C. 1531 et seq.) and Federal regulations prohibit the “take” of a fish or wildlife species listed as endangered or threatened. Under the ESA, the following activities are defined as take: To harass, harm, pursue, hunt, shoot, wound, kill, trap, capture, or collect listed wildlife species, or attempt to engage in such conduct (16 U.S.C. 1532). Under certain circumstances, the Service may issue permits to authorize “incidental take” of listed wildlife species under section 10(a)(1)(B) of the ESA on non-Federal lands. Incidental take is defined by the ESA as take that is incidental to, and not the purpose of, carrying out an otherwise lawful activity. Regulations governing permits for endangered and threatened species are at 50 CFR 17.22 and 50 CFR 17.32, respectively.

Section 10 of the ESA specifies the requirements for the issuance of incidental take permits to non-Federal entities. Any proposed take must be incidental to otherwise lawful activities and cannot appreciably reduce the likelihood of the survival and recovery of the species in the wild. The impacts of such take must also be minimized and mitigated to the maximum extent practicable. To obtain an incidental take permit, an applicant must prepare aHCP describing the impacts that will likely result from the proposed taking, the measures for minimizing and mitigating the impacts of the take, the funding available to implement such measures, alternatives to the taking, and the reason why such alternatives are not being implemented. Thus, the HCP sets forth a uniform and systematic conservation strategy that ensures that impacts to Covered Species and their habitats from activities covered by the HCP (“Covered Activities”) are minimized and mitigated to the maximum extent practicable. If a section 10 permit is issued, the permittee(s) would receive assurances for all plant and animal species covered by the HCP on non-Federal land and included on the permit under the Service's “No Surprises” regulation (50 CFR 17.22(b)(5) and 17.32(b)(5)).

Project Area

The proposed DRECP Planning Area generally covers approximately 22,587,000 acres of Federal and non-Federal land in the Mojave and Colorado Desert regions of southern California where renewable energy development potentially may occur, including portions of seven counties (Imperial, Inyo, Kern, Los Angeles, Riverside, San Bernardino, and San Diego). The proposed HCP would cover non-Federal lands in the project area, the proposed NCCPwould cover both Federal (to the extent permitted by law) and non-Federal lands, and the possible CDCA Plan amendment would cover BLM-administered lands. The proposed DRECP and possible CDCAP amendment may focus on specific areas for development, such as the west Mojave, Imperial, and eastern Riverside areas.

Potential Applicants

The DRECP is being prepared through a collaboration of Federal, State, and local agencies as the basis for the CEC (and potentially other entities) to apply for incidental take permits for implementation of the DRECP under (1) Section 10(a)(1)(B) of the ESA and (2) Section 2835 (NCCPA) or Section 2081 (CESA) of the California Fish and Game Code. Other potential applicants that may have jurisdiction over renewable energy and transmission development in the DRECP Planning Area, include the California Public Utilities Commission, special utilities districts, and local agencies (counties and cities). Upon approval and adoption of the DRECP, and issuance of incidental take authorizations by the Service and CDFG, these other entities, if included as permittees, could extend their permit authorizations to proponents of renewable energy and transmission projects under their jurisdiction.

Other entities that may apply for incidental take permits that have authority over lands within the DRECP Planning Area include CDFG, the State Lands Commission, the California Parks and Recreation Department, and certain campuses of the University of California.

Covered Activities

The proposed ESA incidental take permit may allow take of Covered Species of wildlife resulting from Covered Activities on non-Federal land in the proposed DRECP Planning Area. The purpose of the DRECP is to contribute to the conservation of Covered Species while streamlining endangered species permitting for renewable energy development and transmission projects. To ensure that all relevant renewable energy projects are included and addressed, the Covered Activities are defined broadly as the exploration, pre-project activities (geotechnical borings, site reconnaissance, and, depending on the type of project, installation of temporary meteorological stations or test drilling and trenching), site preparation and construction, related infrastructure requirements, operations and maintenance, monitoring, and future decommissioning of public and private utility-scale renewable energy generation and transmission in the plan area. The activity types covered by the DRECP are expected to include transmission facilities that support renewable energy development, solar (photovoltaic and thermal) projects, wind projects, geothermal projects, and conservation actions. To facilitate timely and environmentally responsible development, the proposed DRECP and possible CDCAP amendment may focus on specific areas for development, such as the west Mojave, Imperial, and east Riverside areas. Potential impacts to Covered Species would be addressed through a conservation program that includes avoidance, minimization, mitigation, conservation, and restoration of habitat for Covered Species by multiple components, such as reserve design and assembly processes, protection and management elements, funding assurances, monitoring, and adaptive management within the DRECPPlanning Area. More information on proposed Covered Activities is available on the Internet at http://www.drecp.org/covered activities.

The planning goals of the DRECP include the following:

• Provide for the longer term conservation and management of Covered Species within the DRECP plan area;

• Preserve, restore, and enhance natural communities and ecosystems that support Covered Species within the DRECP area;

• Build on the competitive renewable energy zones identified by the Renewable Energy Transmission Initiative;

• Further identify the most appropriate locations within the DRECP area for the development of utility-scale renewable energy projects, taking into account potential impacts to threatened and endangered species and sensitive natural communities;

• Provide a means to implement Covered Activities in a manner that complies with the ESA, CESA, NCCPA, NEPA, CEQA, and other relevant laws;

• Provide a basis for the issuance of take authorizations allowing the lawful take of Covered Species incidental to Covered Activities;

• Provide for issuance of take authorizations for other Covered Species that are not currently listed but which may be listed in the future;

• Provide a comprehensive means to coordinate and standardize mitigation and compensation requirements for Covered Activities within the plan area;

• Provide a framework for a more efficient process by which proposed renewable energy projects with the plan area may obtain regulatory authorizations, and which results in greater conservation values than would a project-by-project, species-by-species review; and

• Identify and incorporate climate change adaptation research, management objectives, and policies into the final plan document.

Covered Species

Covered Species are those species addressed in the proposed DRECP for which conservation actions will be implemented and for which the applicants will seek incidental take authorizations for a period of up to 40 years. Proposed Covered Species are expected to include threatened and endangered species listed under the ESA, species listed under CESA, and unlisted species of Federal and Stateconservation concern.

The following Federally listed threatened and endangered wildlife species are proposed to be covered by the DRECP: The threatened desert tortoise (Gopherusagassizii), endangered Peninsular bighorn sheep (Oviscanadensisnelsoni), endangered California condor (Gymnogypscalifornianus), and endangered arroyo toad (Anaxyrus [Bufo] californicus).

Take of Federally listed plant species is not prohibited on non-Federal land under the ESA, and authorization under an ESA section 10 permit is not required. Section 9 of ESA does, however, prohibit the removal or malicious destruction of Federally listed plants from areas under Federal jurisdiction and the removal or destruction of such plants in knowing violation of State law. In addition, section 7(a)(2) of the ESA prohibits Federal agencies from jeopardizing the continued existence of any listed plant or animal species, or destroying or adversely modifying the critical habitat of such species. The following Federally listed plant species are proposed to be included in the DRECP in recognition of the conservation benefits to be provided for them under the plan, and the assurances permit holders would receive if they are included on a permit: The threatened Peirson's milk-vetch (Astragalusmagdalenaevar.peirsonii), endangered Amargosaniterwort (Nitrophilamohavensis), endangered Lane Mountain milk-vetch (Astragalusjaegerianus), and endangered triple-ribbed milk-vetch (Astragalustricarinatus).

The following species that are not Federally listed are proposed to be covered by the DRECP: Amargosa River vole (Microtuscalifornicusscirpensis), California leaf-nosed bat (Macrotuscalifornicus), Mohave ground squirrel (Spermophilus [Xerospermophilus] mohavensis), Mojave River vole (Microtuscalifornicusmohavensis), pallid bat (Antrozouspallidus), Townsend's big-eared bat (Corynorhinustownsendii), American peregrine falcon (Falco peregrinusanatum), bald eagle (Haliaeetusleucocephalus), burrowing owl (Athenecunicularia), golden eagle (Aquila chrysaetos), Greater Sandhill crane (Gruscanadensistabida), Swainson's hawk (Buteoswainsoni), flat-tailed horned lizard (Phrynosomamcallii), Mojave fringe-toed lizard (Uma scoparia), Barstow woolly sunflower (Eriophyllummohavense), desert cymopterus (Cymopterusdeserticola), and Mojave monkeyflower (Mimulusmohavensis).

The species noted above will be evaluated for inclusion in the DRECP as proposed Covered Species. However, the list of Covered Species may change as the planning process progresses; species may be added or removed as more is learned about the nature of Covered Activities and their impact on native species within the plan area. More information on Covered Species, including State-listed and unlisted species, is available on the Internet at http://www.drecp.org/covered species.

Environmental Impact Statement

Before deciding whether to issue the requested Federal incidental take permit, the Service will prepare a draft EIS as part of the joint EIS/EIR, in order to analyze the environmental impacts associated with potential adoption and implementation of the proposed DRECP as a HCP and NCCP. In the EIS component of the joint EIS/EIR, the Service will consider the following alternatives: (1) The proposed action, which includes the issuance of take authorizations consistent with the proposed DRECP under section 10(a)(1)(B) of the ESA; (2) no action (no Federal ESA permit issuance); and (3) a reasonable range of alternatives that address different scenarios of renewable energy development and species conservation on both Federal and non-Federal land. The EIS/EIR will include a detailed analysis of the impacts of the proposed action and alternatives. The range of alternatives to be considered and analyzed will represent varying levels of conservation and impacts, and may include variations in the scope of Covered Activities; variations in the locations, amount, and type of conservation; variations in permit duration; or a combination of these elements. The BLM may address other considerations in the EIS. In compliance with NEPA, the Service and BLM will be responsible for the scope and preparation of the EIS component of the joint EIS/EIR.

The EIS/EIR will identify and analyze potentially significant direct, indirect, and cumulative impacts of the Service's authorization of incidental take (permit issuance) and the implementation of the proposed DRECP on biological resources, land uses (including BLM, U.S. Department of Defense military operations, and Native American traditional land uses), utilities, air quality, water resources (including surface and groundwater supply and water quality), cultural resources, socioeconomics and environmental justice, outdoor recreation, visual resources, induced growth, climate change and greenhouse gases, and other environmental issues that could occur with implementation of the proposed action and alternatives. The Service and the BLM will use all practicable means, consistent with NEPA and other essential considerations of national policy, to avoid or minimize significant effects of their actions upon the quality of the human environment.

The Service and BLM have invited the National Park Service (NPS), Environmental Protection Agency (EPA), Department of Energy, and the Department of Defense to be cooperating Federal agencies in the preparation of the EIS, because the proposed project may have effects on lands and facilities under the jurisdictions of those agencies. To date, the NPS and EPA have requested and agreed to be cooperating agencies. The CDFG has requested and agreed to be a State cooperating agency. The Service, BLM, NPS, EPA, and CDFG agree that establishing a cooperating agency relationship will create a more streamlined and coordinated approach in developing this EIS.

Reasonable Accommodation

Persons needing reasonable accommodations to attend and participate in the public meeting should contact Ken Corey at (760) 431-9440 as soon as possible. To allow sufficient time to process requests, please call no later than 1 week before the public meeting. Information regarding this proposed action is available in alternative formats upon request.

Public Comments

Before including your address, phone number, e-mail address, or other personal identifying information in your comment, you should be aware that your entire comment—including your personal identifying information—may be made publicly available at any time. While you can ask us in your comment to withhold your personal identifying information from public review, we cannot guarantee that we will be able to do so.

Material the Service receives will be available for public inspection, by appointment, during normal business hours (Monday through Friday, 8 a.m. to 4:30 p.m.) at the Service's Carlsbad address (see ADDRESSES).

At the close of the public comment period, all written comments received by the Federal co-lead agencies will be posted on the Internet at http://www.drecp.org/public scoping comments. Comments received by CEC in response to their notice of preparation under CEQA will also be posted on the Web site.

Authority: 40 CFR 1501.7.

Tom Pogacnik,
Deputy State Director, Natural Resources, California State Office, Bureau of Land Management, Sacramento, California.
Dated: July 22, 2011.
Alexandra Pitts,
Deputy Regional Director, Pacific Southwest Region, U.S. Fish and Wildlife Service, Sacramento, California.

[FR Doc. 2011-19175 Filed 7-28-11; 8:45 am]

BILLING CODE 4310-55-P